DEPARTMENT OF COMMERCE

National Oceanic and Atmospheric Administration

RIN 0648-XA047-1

South Atlantic Fishery Management Council (Council); Public Meetings

AGENCY: National Marine Fisheries Service (NMFS), National Oceanic and Atmospheric Administration (NOAA), Commerce.

ACTION: Notice of public meetings.

SUMMARY: The South Atlantic Fishery Management Council will hold a meeting of its Spiny Lobster Committee, Personnel Committee (Closed Session), King and Spanish Mackerel Committee, Ecosystem-Based Management Committee, Golden Crab Committee, Southeast Data, Assessment, and Review (SEDAR) Committee (a portion of the meeting will be closed), Joint Executive and Finance Committees, Standard Operating, Policy and Procedures (SOPPs) Committee, Snapper Grouper Committee, and a meeting of the Full Council. The Council will take action as necessary.

The Council will also hold an informal public question and answer session, a public comment session regarding agenda items, and public comment on Regulatory Amendment 10. See SUPPLEMENTARY INFORMATION for additional details.

DATES: The meeting will be held December 6-10, 2010. See SUPPLEMENTARY INFORMATION for specific dates and times.

ADDRESSES: The meeting will be held at the Hilton New Bern/Riverfront, 100 Middle Street, New Bern, NC 28562; Telephone: 1-800/326-3745 or 252/638-3585; Fax 252/638-8112. Copies of documents are available from Kim Iverson, Public Information Officer, South Atlantic Fishery Management Council, 4055 Faber Place Drive, Suite 201, North Charleston, SC 29405.

FOR FURTHER INFORMATION CONTACT: Kim Iverson, Public Information Officer; telephone: 843/571-4366 or toll free at 866/SAFMC-10; fax: 843/769-4520; e-mail: kim.iverson@safmc.net.

SUPPLEMENTARY INFORMATION:

Meeting Dates

1. Spiny Lobster Committee: December 6, 2010, 1:30 p.m. Until 4:30 p.m.

The Spiny Lobster Committee will review the SEDAR Spiny Lobster Update regarding the stock status and review recommendations from the Science and Statistical Committee (SSC). The Committee will continue to review actions for Amendment 10 to the joint Fishery Management Plan (FMP) for Spiny Lobster for Gulf of Mexico and South Atlantic. Amendment 10 will address the requirements of the Reauthorized Magnuson-Stevens Fishery Conservation and Management Act (MSA) including establishment of Annual Catch Limits (ACLs) and Accountability Measures (AMs). The Committee will provide direction to staff and approve Amendment 10 and the Draft Environmental Impact Statement (DEIS) for public hearings.

2. Personnel Committee Meeting: December 6, 2010, 4:30 p.m. Until 5:30 p.m. (Closed Meeting)

The Personnel Committee will receive an update on staff positions and provide a performance review for the Executive Director.

3. Mackerel Committee Meeting: December 7, 2010, 8:30 a.m. Until 12 Noon

The Mackerel Committee will continue to review actions for draft Amendment 18 to the FMP for Coastal Migratory Pelagic Resources for the Gulf of Mexico and South Atlantic Region. Amendment 18 addresses requirements of the MSA to set ACLs and AMs for species managed in the FMP. The Committee will review the draft amendment and Environmental Assessment, provide direction to staff, and approve the Amendment for public hearings.

4. Ecosystem-Based Management Committee Meeting: December 7, 2010, 1:30 p.m. Until 3:30 p.m.

The Ecosystem-Based Management Committee will review the actions and alternatives currently in draft Comprehensive Ecosystem-Based Amendment 2, review recommendations from the Council's Habitat Advisory Panel, provide guidance to staff, and approve the Amendment for public hearings.

5. Golden Crab Committee Meeting: December 7, 2010, 3:30 p.m. Until 4:30 p.m.

The Golden Crab Committee will approve issues in Golden Crab Amendment 5 regarding the establishment of a catch share program for the commercial fishery and approve the amendment for public scoping.

6. SEDAR Committee Meeting: December 7, 2010, 4:30 p.m. Until 5:30 p.m. (Note: A Portion of the Meeting Will Be Closed)

The SEDAR Committee will receive an update on SEDAR activities, a report on the SEDAR Steering Committee meeting and follow-up actions, and approve sea bass assessment documents. (In Closed Session) the Committee will review applications to the SEDAR Pool and develop recommendations for SEDAR participants.

7. Joint Executive/Finance Committees Meeting: December 8, 2010, 8:30 a.m. Until 9:30 a.m.

The Executive Committee and Finance Committees will meet jointly and receive status reports on the Calendar Year (CY) 2010 budget and activities, and the Fiscal Year 2011 Congressional budget. The Committee will review and discuss the tentative 2011 Council budget and activities schedule.

8. SOPPs Committee Meeting: December 8, 2010, 9:30 a.m. Until 11 a.m.

The SOPPs Committee will review the final rule addressing Council SOPPs and develop recommendations for changes to the SOPPs in accordance with the final rule as proposed by staff.

9. Snapper Grouper Committee Meeting: December 8, 2010, 11 a.m. Until 5 p.m., and December 9, 2010, 8:30 a.m. Until 12 Noon

The Snapper Grouper Committee will receive a report on outreach and research activities associated with the Oculina Bank Experimental Closed Area, a report from the Council's SSC, and a report of the Snapper Grouper Advisory Panel.

The Committee will review, modify and approve the Comprehensive Annual Catch Limit (ACL) Amendment for public hearings. The Comprehensive ACL Amendment will specify ACLs, AMs and other values as mandated in the MSA for species managed by the Council and not subject to overfishing. This includes species in the Snapper Grouper, Coral, Golden Crab, Sargassum, and Dolphin Wahoo fishery management units.

The Committee will review public hearing comments regarding Amendment 18A to the Snapper Grouper Fishery Management Plan (FMP), modify the amendment as appropriate, and approve actions. Amendment 18A includes actions to modify the golden tilefish and black sea bass pot commercial fisheries, and improvements for fisheries statistics.

The Committee will review Regulatory Amendment 10 to the Snapper Grouper Fishery Management Plan addressing options for red snapper management (to be submitted to the Secretary of Commerce for review) and Regulatory Amendment 9 addressing trip limits for black sea bass, vermilion snapper, gag, and greater amberjack. The Committee will modify draft Amendment 9 and approve it for public hearings.

The Committee will review Amendments 24, 21, and 22, provide appropriate guidance to staff, and approve the amendments for public scoping. Amendment 24 addresses requirements under the MSA for red grouper, including establishment of ACLs, AMs, and a rebuilding plan. Amendment 21 addresses alternatives for management of the snapper grouper fishery including: Implementation of trip limits, effort and participation reductions, endorsements, catch shares, and regional quotas. Amendment 22 includes options for long-term management measures for red snapper in the South Atlantic as the stock rebuilds. The Committee will receive a status report on Amendment 20 to modify and update the current Individual Transferable Quota (ITQ) program for wreckfish. The Committee will also discuss Amendment 18B and determine if the development of the Amendment is necessary. Amendment 18B includes options to extend the jurisdiction of the snapper grouper fishery management unit northward.

Note: There will be an informal public question and answer session with NOAA Fisheries Services' Regional Administrator and the Council Chairman on December 8, 2010 beginning at 5:30 p.m.

Council Session: December 9, 2010, 1:30 p.m. Until 5:30 p.m. and December 10, 2010, 8:30 a.m. Until 12 Noon

Council Session: December 9, 2010, 1:30 p.m. Until 5:30 p.m.

From 1:30 p.m.-1:45 p.m., the Council will call the meeting to order, adopt the agenda, and approve the September 2010 meeting minutes.

Note: A public comment period on Regulatory Amendment 10 (Red Snapper) will be held on December 9, 2010 beginning at 1:45 p.m. followed by public comment on any of the December meeting agenda items.

From 3 p.m.-3:30 p.m., the Council will receive a report from the Spiny Lobster Committee, approve Spiny Lobster Amendment 10/DEIS for public hearing, consider other Committee recommendations, and take action as appropriate.

From 3:30 p.m.-4 p.m., the Council will receive a report from the Mackerel Committee, approve Mackerel Amendment 18/EA for public hearing, consider other Committee recommendations, and take action as appropriate.

From 4 p.m.-4:15 p.m., the Council will receive a report from the Ecosystem-Based Management Committee, approve the Comprehensive Ecosystem-Based Amendment 2 for public hearing, consider other Committee recommendations, and take action as appropriate.

From 4:15 p.m.-4:30 p.m., the Council will receive a report from the Golden Crab Committee and approve issues in Golden Crab Amendment 5 for public scoping.

From 4:30 p.m.-4:45 p.m., the Council will receive a report from the SEDAR Committee, approve sea bass assessment documents, appoint SEDAR participants, consider other Committee recommendations and take action as appropriate.

From 4:45 p.m.-5:15 p.m. the Council will receive a legal briefing on litigation (Closed Session).

Council Session: December 10, 2010, 8:30 a.m. Until 12 Noon

From 8:30 a.m.-8:45 a.m., the Council will receive a report from the Executive/Finance Committees and take action as appropriate.

From 8:45 a.m.-9 a.m., the Council will receive a report from the SOPPs Committee and take action as appropriate.

From 9 a.m.-10:30 a.m., the Council will receive a report from the Snapper Grouper Committee, approve Regulatory Amendment 10 for submission to the Secretary of Commerce for review, approve actions in Amendment 18A, approve the Comprehensive ACL Amendment, and Regulatory Amendment 9 for public hearings, approve Amendments 21, 22, and 24 for public scoping, consider other Committee recommendations and take action as appropriate.

From 10:30 a.m.-12 noon, the Council will receive status reports from NOAA Fisheries' Southeast Regional Office, NOAA Fisheries' Southeast Fisheries Science Center, review Experimental Fishing Permits as necessary, receive agency and liaison reports, and discuss other business including upcoming meetings.

* * * * *

Documents regarding these issues are available from the Council office (see ADDRESSES).

* * * * *

Although non-emergency issues not contained in this agenda may come before this Council for discussion, those issues may not be the subjects of formal final Council action during this meeting. Council action will be restricted to those issues specifically listed in this notice and any issues arising after publication of this notice that require emergency action under section 305(c) of the Magnuson-Stevens Act, provided the public has been notified of the Council's intent to take final action to address the emergency.

Except for advertised (scheduled) public hearings and public comment, the times and sequences specified on this agenda are subject to change.

Special Accommodations

These meetings are physically accessible to people with disabilities. Requests for sign language interpretation or other auxiliary aids should be directed to the Council office (see ADDRESSES) by December 1, 2010.

Dated: November 15, 2010.
Tracey L. Thompson,
Acting Director, Office of Sustainable Fisheries, National Marine Fisheries Service.

[FR Doc. 2010-29149 Filed 11-18-10; 8:45 am]

BILLING CODE 3510-22-P